SMALL BUSINESS ADMINISTRATION

Notice Seeking Exemption Under Section 312 of the Small Business Investment Act, Conflicts of Interest

Notice is hereby given that Horizon Ventures Fund II, L.P. (“Applicant”), 4 Main Street, Suite 50, Los Altos, CA 94022, an SBIC Applicant under the Small Business Investment Act of 1958, as amended (“the Act”), in connection with the financing of a small concern, has sought an exemption under section 312 of the Act and section 107.730, Financings which Constitute Conflicts of Interest, of the Small Business Administration (“SBA”) rules and regulations (13 CFR 107.730 (2004)). Horizon Ventures Fund II, L.P. proposes to provide equity financing to Flexlogics, Inc., 555 Mathilda Avenue, Suite 100, Sunnyvale, CA 94086. The financing is contemplated for marketing, working capital and research and development.

The financing is brought within the purview of section 107.730(a)(1) of the Regulations because Horizon Ventures Fund I, L.P. and Horizon Ventures Advisors Fund I, Associates of the Applicant currently owns greater than 10 percent of Flexlogics, Inc., and therefore Flexlogics, Inc. is considered an Associate of the Applicant as defined in section 107.50 of the Regulations.

Notice is hereby given that any interested person may submit written comments on the transaction to the Associate Administrator for Investment, U.S. Small Business Administration, 409 Third Street, SW., Washington, DC 20416.

Dated: June 3, 2004.
Jeffrey D. Pierson,
Associate Administrator for Investment.

[FR Doc. 04-13339 Filed 6-14-04; 8:45 am]

BILLING CODE 8025-01-P